DEPARTMENT OF COMMERCE

International Trade Administration

[A-533-502]

Welded Carbon Steel Standard Pipes and Tubes From India: Notice of Court Decision Not in Harmony With the Results of Antidumping Administrative Review; Notice of Amended Final Results

AGENCY: Enforcement and Compliance, International Trade Administration, Department of Commerce.

SUMMARY: On November 7, 2024, the U.S. Court of International Trade (CIT) issued its final judgment in Garg Tube Export LLP and Garg Tube Limited v. United States, Court No. 21-00169, sustaining the U.S. Department of Commerce's (Commerce) first and second remand results pertaining to the administrative review of the antidumping duty (AD) order on welded carbon steel standard pipes and tubes (pipe and tube) from India covering the period May 1, 2018, through April 30, 2019. Commerce is notifying the public that the CIT's final judgment is not in harmony with Commerce's final results of the administrative review and that Commerce is amending the final results with respect to the dumping margin assigned to Garg Tube Limited and Garg Tube Export LLP (collectively, Garg Tube).

DATES: Applicable November 17, 2024.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On March 19, 2021, Commerce published its Final Results in the 2018-2019 AD administrative review of pipe and tube from India.¹ Commerce calculated a weighted-average dumping margin of 13.90 percent for Garg Tube.²

¹ See Welded Carbon Steel Standard Pipes and Tubes from India: Final Results of Antidumping Duty Administrative Review; 2018-2019, 86 FR 14872 (March 19, 2021) (Final Results), and accompanying Issues and Decision Memorandum.

² Id. at 14873.

Garg Tube appealed Commerce's Final Results. On February 3, 2023, the CIT granted Commerce's request for a voluntary remand to recalculate Garg Tube's weighted-average dumping margin established in the Final Results without making a cost-based particular market situation (PMS) adjustment.³ In its final results of the first remand redetermination, issued in March 2023, Commerce reversed a PMS adjustment made to the cost of production (COP) in the Final Results and recalculated Garg Tube's weighted-average dumping margin accordingly.⁴

³ See Garg Tube Export LLP and Garg Tube Limited v. United States, Court No. 21-00169 (CIT February 3, 2023); see also Commerce's February 2, 2023, consent motion for a voluntary remand (the CIT granted the motion without modification).

⁴ See Final Results of Redetermination Pursuant to Court Remand, Garg Tube Export LLP and Garg Tube Limited v. United States, Court No. 21-00169, (CIT February 3, 2023), dated March 16, 2023.

On April 8, 2024, the CIT remanded the Final Results to Commerce, holding that it was not reasonably discernable from Commerce's analysis which statutory provision under section 776 of the Tariff Act of 1930, as amended (the Act), it was relying upon in applying partial adverse facts available (AFA) with respect to COP for pipe and tube sourced from an unaffiliated supplier.⁵ The CIT further held that to the extent that Commerce relied on section 776(a) of the Act, Commerce must further support its determination by addressing the Mueller ⁶ factors, and to the extent Commerce relied on section 776(b) of the Act, Commerce must explain why Garg Tube did not act to the best of its ability and do all that it could to cooperate.⁷

⁵ See Garg Tube Export LLP and Garg Tube Limited v. United States, 698 F. Supp. 3d 1230 (CIT 2024) (Garg Tube).

⁶ See Mueller Comercial de Mexico, S. de R.L. de C.V. v. United States, 753 F.3d 1227 (Fed. Cir. 2014) (Mueller).

⁷ See Garg Tube.

In its final results of the second remand redetermination, issued in July 2024, Commerce clarified its methodology and, under respectful protest, modified the margin calculations for Garg Tube by relying on facts available, with no adverse inference, to fill the gap in the record on the unaffiliated supplier's missing COP information caused by its non-cooperation.⁸ The CIT sustained Commerce's final results of the first and second redeterminations.⁹

⁸ See Final Results of Redetermination Pursuant to Court Remand, Garg Tube Export LLP and Garg Tube Limited v. United States, 698 F. Supp. 3d 1230 (CIT 2024), dated July 8, 2024.

⁹ See Garg Tube Export LLP and Garg Tube Limited v. United States, Court No. 21-00169, Slip Op. 24-124 and Judgment Order (CIT November 7, 2024).

Timken Notice

In its decision in Timken,¹⁰ as clarified by Diamond Sawblades,¹¹ the U.S. Court of Appeals for the Federal Circuit held that, pursuant to sections 516A(c) and (e) of the Act, Commerce must publish a notice of court decision that is not “in harmony” with a Commerce determination and must suspend liquidation of entries pending a “conclusive” court decision. The CIT's November 7, 2024, judgment constitutes a final decision of the CIT that is not in harmony with Commerce's Final Results. Thus, this notice is published in fulfillment of the publication requirements of Timken.

¹⁰ See Timken Co. v. United States, 893 F.2d 337 (Fed. Cir. 1990) (Timken).

¹¹ See Diamond Sawblades Manufacturers Coalition v. United States, 626 F.3d 1374 (Fed. Cir. 2010) (Diamond Sawblades).

Amended Final Results

Because there is now a final court judgment, Commerce is amending its Final Results with respect to Garg Tube as follows:

Producer or exporter | Weighted-average dumping margin (percent)
Garg Tube Export LLP and Garg Tube Limited | 4.25

Cash Deposit Requirements

Because Garg Tube does not have a superseding cash deposit rate, i.e., there have not been final results published in a subsequent administrative review, we will issue revised cash deposit instructions to U.S. Customs and Border Protection (CBP).

Liquidation of Suspended Entries

At this time, Commerce remains enjoined by CIT order from liquidating entries that were produced and/or exported by Garg Tube, and were entered, or withdrawn from warehouse, for consumption during the period May 1, 2018, through April 30, 2019. These entries will remain enjoined pursuant to the terms of the injunction during the pendency of any appeals process.

In the event the CIT's ruling is not appealed, or, if appealed, upheld by a final and conclusive court decision, Commerce intends to instruct CBP to assess antidumping duties on unliquidated entries of subject merchandise produced and/or exported by Garg Tube in accordance with 19 CFR 351.212(b). We will instruct CBP to assess antidumping duties on all appropriate entries covered by this review when the importer-specific ad valorem assessment rate is not zero or de minimis. Where an import-specific ad valorem assessment rate is zero or de minimis,¹² we will instruct CBP to liquidate the appropriate entries without regard to antidumping duties.

¹² See 19 CFR 351.106(c)(2).

Notification to Interested Parties

This notice is issued and published in accordance with sections 516A(c) and (e) and 777(i)(1) of the Act.

Dated: November 15, 2024.
Abdelali Elouaradia,
Deputy Assistant Secretary for Enforcement and Compliance.

[FR Doc. 2024-27319 Filed 11-20-24; 8:45 am]

BILLING CODE 3510-DS-P